DEPARTMENT OF COMMERCE

International Trade Administration

[C-570-085]

Certain Quartz Surface Products From the People's Republic of China: Postponement of Preliminary Determination in the Countervailing Duty Investigation

AGENCY: Enforcement and Compliance, International Trade Administration, U.S. Department of Commerce.

DATES: Applicable June 29, 2018.

FOR FURTHER INFORMATION CONTACT: Darla Brown or Terre Keaton Stefanova, AD/CVD Operations, Office II, Enforcement and Compliance, International Trade Administration, U.S. Department of Commerce, 1401 Constitution Avenue NW, Washington, DC 20230; telephone: (202) 482-1791, or (202) 482-1280, respectively.

SUPPLEMENTARY INFORMATION:

Background

On May 7, 2018, the Department of Commerce (Commerce) initiated a countervailing duty (CVD) investigation on certain quartz surface products from the People's Republic of China.¹ Currently, the preliminary determination is due no later than July 11, 2018.

¹ See Certain Quartz Surface Products from the People's Republic of China: Initiation of Countervailing Duty Investigation, 83 FR 22618 (May 16, 2018).

Postponement of the Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 11, 2018, the petitioner, Cambria Company LLC, submitted a timely request that we postpone the preliminary CVD determination because: (1) Commerce was not able to issue its respondent selection memorandum until June 8, 2018; and (2) as a result, responses to the CVD questionnaire are not due until July 16, 2018 (i.e., after the statutory deadline for the preliminary determination). Moreover, the petitioner noted that, because Commerce just identified the mandatory respondents, it has only now begun its research to identify any additional subsidy benefits not addressed in the Petition. Accordingly, the petitioner maintains that, because this investigation is likely to be more complicated than usual, additional time is necessary to ensure that Commerce can conduct a full investigation regarding the subsidy benefits received by Chinese producers and exporters of quartz surface products.²

² See Letter from the petitioner, “Certain Quartz Surface Products from the People's Republic of China: Request to Postpone Preliminary Determination,” dated June 11, 2018.

In accordance with 19 CFR 351.205(e), the petitioner has stated the reasons for requesting a postponement of the preliminary determination, and Commerce finds no compelling reason to deny the request. Therefore, pursuant to section 703(c)(1)(A) of the Act, we are extending the due date for the preliminary determination to no later than 130 days after the date on which this investigation was initiated, i.e., to September 14, 2018. Pursuant to section 705(a)(1) of the Act and 19 CFR 351.210(b)(1), the deadline for the final determination will continue to be 75 days after the date of the preliminary determination.

This notice is issued and published pursuant to section 703(c)(2) of the Act and 19 CFR 351.205(f)(l).

Dated: June 20, 2018.
Gary Taverman,
Deputy Assistant Secretary for Antidumping and Countervailing Duty Operations, performing the non-exclusive functions and duties of the Assistant Secretary for Enforcement and Compliance.

[FR Doc. 2018-13694 Filed 6-28-18; 8:45 am]

BILLING CODE 3510-DS-P